NATIONAL SCIENCE FOUNDATION

Membership of the National Science Foundation's Office of Inspector Generals Senior Executive Service Performance Review Board

AGENCY: National Science Foundation.

ACTION: Announcement of Membership of the National Science Foundation's Office of Inspector General Senior Executive Service Performance Review Board.

SUMMARY: This announcement of the membership of the National Science Foundation's Office of Inspector General Senior Executive Service Performance Review Board is made in compliance with 5 U.S.C. 4314(c)(4).

ADDRESSES: Comments should be addressed to Division Director, Division of Human Resource Management, National Science Foundation, Room 15239, 2415 Eisenhower Avenue, Alexandria, VA 22314.

FOR FURTHER INFORMATION CONTACT: Ms. Dianne Campbell Krieger at the above address or (703) 292-5194.

SUPPLEMENTARY INFORMATION: The membership of the National Science Foundation's Office of Inspector General Senior Executive Service Performance Review Board is as follows:

Three members to be selected from the IG community.

Dated: October 26, 2017.
Dianne Campbell Krieger,
Division Director, Division of Human Resource Management.

[FR Doc. 2017-23810 Filed 11-15-17; 8:45 am]

BILLING CODE 7555-01-M